DEPARTMENT OF ENERGY

Federal Energy Regulatory Commission

Combined Notice of Filings #1

Take notice that the Commission received the following electric corporate filings:

Docket Numbers: EC19-84-000.

Applicants: Oregon Trail Wind Park, LLC, Payne's Ferry Wind Park, LLC, Pilgrim Stage Station Wind Park, LLC, Yahoo Creek Wind Park, LLC.

Description: Application for Authorization Under Section 203 of the Federal Power Act, et al. of Oregon Trail Wind Park, LLC, et al.

Filed Date: 5/2/19.

Accession Number: 20190502-5140.

Comments Due: 5 p.m. ET 5/23/19.

Take notice that the Commission received the following exempt wholesale generator filings:

Docket Numbers: EG19-95-000.

Applicants: Glen Ullin Energy Center, LLC.

Description: Self-Certification of EG or FC of Glen Ullin Energy Center, LLC.

Filed Date: 5/3/19.

Accession Number: 20190503-5112.

Comments Due: 5 p.m. ET 5/24/19.

Take notice that the Commission received the following electric rate filings:

Docket Numbers: ER10-2718-032; ER10-2719-032.

Applicants: Cogen Technologies Linden Venture, L.P., East Coast Power Linden Holding, L.L.C.

Description: Supplement to November 26, 2018 Notice of Non-Material Change in Status of Cogen Technologies Linden Venture, L.P., et al.

Filed Date: 5/3/19.

Accession Number: 20190503-5084.

Comments Due: 5 p.m. ET 5/24/19.

Docket Numbers: ER17-1531-003.

Applicants: CPV Fairview, LLC.

Description: Supplement to January 17, 2019 Notice of Change in Status of CPV Fairview, LLC.

Filed Date: 5/3/19.

Accession Number: 20190503-5100.

Comments Due: 5 p.m. ET 5/24/19.

Docket Numbers: ER19-1153-001.

Applicants: California Independent System Operator Corporation.

Description: Tariff Amendment: 2019-05-03 Deficiency Filing Inverter-Based Interconnection Requirements to be effective 4/30/2019.

Filed Date: 5/3/19.

Accession Number: 20190503-5081.

Comments Due: 5 p.m. ET 5/24/19.

Docket Numbers: ER19-1339-001.

Applicants: Duke Energy Progress, LLC.

Description: Tariff Amendment: Clarifying Amendment to Recovery of Storm Rates and Reqt for Expedited Action to be effective 5/15/2019.

Filed Date: 5/3/19.

Accession Number: 20190503-5066.

Comments Due: 5 p.m. ET 5/10/19.

Docket Numbers: ER19-1374-001.

Applicants: Midcontinent Independent System Operator, Inc.

Description: Tariff Amendment: 2019-05-02_SA 3271 Bondurant-Montezuma 345kV Structure Replacement Sub MPFCA to be effective 3/20/2019.

Filed Date: 5/2/19.

Accession Number: 20190502-5095.

Comments Due: 5 p.m. ET 5/13/19.

Docket Numbers: ER19-1375-001.

Applicants: Midcontinent Independent System Operator, Inc..

Description: Tariff Amendment: 2019-05-03_SA 3273 150 Mvar Cap Bank at Blackhawk 345kV Sub MPFCA to be effective 3/20/2019.

Filed Date: 5/3/19.

Accession Number: 20190503-5036.

Comments Due: 5 p.m. ET 5/13/19.

Docket Numbers: ER19-1378-001.

Applicants: Midcontinent Independent System Operator, Inc.

Description: Tariff Amendment: 2019-05-03_SA 3274 1x50 Mvar Cap Bank at Midport 161 kV MPFCA Sub to be effective 3/20/2019.

Filed Date: 5/3/19.

Accession Number: 20190503-5096.

Comments Due: 5 p.m. ET 5/13/19.

Docket Numbers: ER19-1639-001.

Applicants: South Peak Wind LLC.

Description: Tariff Amendment: Amendment to market-based rate application to be effective 6/21/2019.

Filed Date: 5/3/19.

Accession Number: 20190503-5042.

Comments Due: 5 p.m. ET 5/24/19.

Docket Numbers: ER19-1771-000.

Applicants: GridLiance Heartland LLC.

Description: Limited Revisions to Attachment O Formula Rate Template and Implementation Protocols of GridLiance Heartland LLC..

Filed Date: 5/2/19.

Accession Number: 20190502-5139.

Comments Due: 5 p.m. ET 5/23/19.

Docket Numbers: ER19-1772-000.

Applicants: PJM Interconnection, L.L.C.

Description: § 205(d) Rate Filing: Amendment to ISA, Service Agreement No. 4121, Queue No. NQ113 to be effective 2/25/2019.

Filed Date: 5/3/19.

Accession Number: 20190503-5041.

Comments Due: 5 p.m. ET 5/24/19.

Docket Numbers: ER19-1773-000.

Applicants: Alabama Power Company.

Description: § 205(d) Rate Filing: Three Rocks Solar (Evergreen Solar) LGIA Filing to be effective 4/22/2019.

Filed Date: 5/3/19.

Accession Number: 20190503-5043.

Comments Due: 5 p.m. ET 5/24/19.

Docket Numbers: ER19-1774-000.

Applicants: Alabama Power Company.

Description: § 205(d) Rate Filing: Turkey Run LGIA Filing to be effective 4/22/2019.

Filed Date: 5/3/19.

Accession Number: 20190503-5044.

Comments Due: 5 p.m. ET 5/24/19.

Docket Numbers: ER19-1775-000.

Applicants: Southern California Edison Company.

Description: § 205(d) Rate Filing: SCE Recollation of TO Tariff Filing 2b of 3 to be effective 5/1/2019.

Filed Date: 5/3/19.

Accession Number: 20190503-5048.

Comments Due: 5 p.m. ET 5/24/19.

Docket Numbers: ER19-1776-000.

Applicants: Southern California Edison Company.

Description: Tariff Cancellation: Notice of Cancellation GIA & DSA Dwight ES 1 Project SA Nos. 1055-1056 to be effective 4/29/2019.

Filed Date: 5/3/19.

Accession Number: 20190503-5062.

Comments Due: 5 p.m. ET 5/24/19.

Docket Numbers: ER19-1777-000.

Applicants: Midwest Energy, Inc.

Description: Petition for Temporary Waiver of Midwest Energy, Inc.

Filed Date: 5/3/19.

Accession Number: 20190503-5063.

Comments Due: 5 p.m. ET 5/24/19.

Docket Numbers: ER19-1778-000.

Applicants: Glen Ullin Energy Center, LLC.

Description: Baseline eTariff Filing: Market-Based Rate Application to be effective 5/6/2019.

Filed Date: 5/3/19.

Accession Number: 20190503-5092.

Comments Due: 5 p.m. ET 5/24/19.

Docket Numbers: ER19-1779-000.

Applicants: Midcontinent Independent System Operator, Inc.

Description: § 205(d) Rate Filing: 2019-05-03_SA 1632 ITC Midwest-Osceola Windpower 3rd Rev GIA (G426 G538) to be effective 4/19/2019.

Filed Date: 5/3/19.

Accession Number: 20190503-5094.

Comments Due: 5 p.m. ET 5/24/19.

Docket Numbers: ER19-1780-000.

Applicants: Southwest Power Pool, Inc.

Description: § 205(d) Rate Filing: 3550 WAPA & City of Moorhead MN Interconnection Agreement to be effective 5/2/2019.

Filed Date: 5/3/19.

Accession Number: 20190503-5114.

Comments Due: 5 p.m. ET 5/24/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 3, 2019.
Kimberly D. Bose,
Secretary.

[FR Doc. 2019-09718 Filed 5-10-19; 8:45 am]

BILLING CODE 6717-01-P